DEPARTMENT OF HOUSING AND URBAN DEVELOPMENT

[Docket No. FR-4407-N-02]

The Performance Review Board

AGENCY: Office of the Deputy Secretary, HUD.

ACTION: Notice of Appointments.

SUMMARY: The Department of Housing and Urban Development announces the appointments of Alphonso Jackson, Frank L. Davis, Marcella E. Belt, Paula O. Blunt, Nelson R. Bregon, Kathleen D. Koch, Floyd O. May, Michael J. Najjum Jr., Lawrence L. Thompson, Margaret E. White, and Margaret Young as members; and Sam E. Hutchinson and Pamela H. Patenaude as alternate members to the Departmental Performance Review Board. The address is: Department of Housing and Urban Development, Washington, DC 20410.

FOR FURTHER INFORMATION CONTACT: Persons desiring any further information about the Performance Review Board and its members may contact Earnestine Pruitt, Director, Executive Personnel Management Division, Department of Housing and Urban Development, Washington, DC 20410, telephone (202) 708-1381. (This is not a toll-free number.)

Dated: October 25, 2001.
Alphonso Jackson,
Deputy Secretary, Department of Housing and Urban Development.

[FR Doc. 01-27902 Filed 11-6-01; 8:45 am]

BILLING CODE 4201-32-M